GENERAL SERVICES ADMINISTRATION

[Notice-PBS-2021-01; Docket No. 2021-0002; Sequence No. 2]

Notice of Availability and Announcement of Meeting for the Chet Holifield Federal Building Final Environmental Impact Statement, Laguna Niguel, California

AGENCY: Public Buildings Service (PBS), General Services Administration (GSA).

ACTION: Notice of Availability; Announcement of Meeting.

SUMMARY: This notice announces the availability of the Final Environmental Impact Statement (FEIS), which examines the potential impacts of a proposal by the General Services Administration (GSA) to address long-term housing for the tenants of the Chet Holifield Federal Building (CHFB) either through lease relocation or a combination of new construction and lease relocation; as well as the disposal of the CHFB out of federal ownership. The CHFB is owned and managed by GSA and is home to various federal agency tenants, with the United States Citizenship and Immigration Services (USCIS) serving as the largest tenant. The FEIS describes the reason for the project; alternatives considered; potential environmental impacts; avoidance, minimization, and mitigation measures; includes responses to comments received on the Draft Environmental Impact Statement; and identifies the Preferred Alternative. GSA is serving as the lead agency in this undertaking, and acting on behalf of its tenants at this facility.

DATES: GSA will hold a virtual public meeting for the FEIS on Tuesday, March 16th, 2021 from 4:30 p.m. to 6:30 p.m., Pacific Time (PT). Interested parties are encouraged to join and provide comments on the FEIS. The public comment period for the FEIS ends Sunday, April 4th, 2021. After this date, GSA may prepare and sign the Record of Decision (ROD), which would provide project approval; undertake additional studies; or abandon the project.

ADDRESSES: GSA will host a virtual public meeting during the public comment period as listed under DATES to solicit public comment. The purpose of the meeting is to collect public comments on the FEIS. The virtual public meeting will begin with presentations on the National Environmental Policy Act (NEPA) process and the proposed project. A copy of the presentation slideshow will be made available prior to the meeting at https://www.gsa.gov/ChetHNEPA.

Following the presentations, there will be a moderated session during which members of the public can provide oral comments on the FEIS. Commenters will be allowed 3 minutes to provide comments. Comments will be recorded. Refer to the end of this notice for instructions on how to access the online public meeting.

Comments will be accepted during the meeting, by mail, and by email. Questions or comments concerning the FEIS should be directed to:

• Email: osmahn.kadri@gsa.gov.

• Postal Mail/Commercial Delivery: Potomac-Hudson Engineering, Inc., ATTN: CHFB Final EIS, 77 Upper Rock Circle Suite 302, Rockville, MD 20850

All comments received written or oral will become public and part of the Administrative Record.

Further information, including an electronic copy of the FEIS, may be found online on the following website: https://www.gsa.gov/ChetHNEPA.

FOR FURTHER INFORMATION CONTACT: Osmahn A. Kadri, Regional Environmental Quality Advisor/NEPA Project Manager, GSA, at 415-522-3617. Please also call this number if special assistance is needed to attend and participate in the public meeting.

SUPPLEMENTARY INFORMATION:

Virtual Public Meeting Information

Members of the public may join the FEIS public meeting by entering the following information—Meeting ID: 960 8174 4705; Password: CHFBEIS, using any of the below methods. Note that the meeting is best viewed through the Zoom app, and attendees are encouraged to download the app at the Zoom website (https://zoom.us) or on their mobile device, and test their connection prior to the meeting to ensure best results.

• From their personal computer by launching the Zoom app (if already installed), and clicking `Join a Meeting' and entering the above Meeting ID and Password. Attendees should follow the prompts to input their name and email address to access the meeting.

• From their personal computer, by going to the Zoom website at http://zoom.us/join, entering the Meeting ID and Password, and following the prompts to download and install the Zoom app.

• From their mobile device through the Zoom mobile app, by entering the above Meeting ID and Password.

• For attendees who do not have the Zoom app or do not wish to download the app, visit http://zoom.us/join using your computer's browser, enter the Meeting ID, and click the `Join from your browser' link that is displayed on the landing page. Then, follow the prompts to enter your name and the meeting Password.

Whether joining through the Zoom app or web browser, attendees should follow the prompts to connect their computer audio. Attendees are encouraged to connect through the `Computer Audio' tab and click `Join Audio by Computer' under the `Join Audio' button on the bottom of their screen. Users who do not have a computer microphone and wish to provide public comment during the meeting may connect by following the prompts under the `Phone Call' tab under the `Join Audio' button.

For members of the public who do not have access to a personal computer, they may join the meeting audio by dialing the following number: 669-900-9128. When prompted, enter the following information: Meeting ID—960 8174 4705, followed by the pound (#) key; press pound (#) again when prompted for a participant ID; then enter Password—4068423 followed by the pound (#) key. Note, dialing in to the meeting is only necessary if you are not accessing the meeting through your computer or mobile app, or if you would like to provide oral comments during the meeting but do not have a computer microphone.

The public meeting will be recorded, and all comments provided will become part of the formal record.

Russell Larson,
Director, Portfolio Management Division, Pacific Rim Region, Public Buildings Service.

[FR Doc. 2021-04781 Filed 3-5-21; 8:45 am]

BILLING CODE 6820-YF-P